DEPARTMENT OF EDUCATION

[CFDA No. 84.341A]

Office of Vocational and Adult Education, Community Technology Centers Program; Notice Inviting Applications for New Awards for Fiscal Year (FY) 2002

Note to Applicants: This notice is a complete application package. Together with the statute authorizing the program and the Education Department General Administrative Regulations (EDGAR), this notice contains all of the information, application forms, and instructions you need to apply for a grant under this competition.

Purpose of Program: The purpose of the Community Technology Centers program is to assist eligible applicants to create or expand community technology centers that will provide disadvantaged residents of economically distressed urban and rural communities with access to information technology and related training.

For FY 2002, the competition for new awards focuses on projects that fulfill the purpose of the program and that address the priorities we describe in the PRIORITIES section of this notice.

Eligible Applicants: Community-based organizations, including faith-based organizations, State and local educational agencies, institutions of higher education, entities such as foundations, libraries, museums and other public and private nonprofit organizations or for-profit businesses. To be eligible, an applicant must also have the capacity to significantly expand access to computers and related services for disadvantaged residents of economically distressed urban and rural communities (who would otherwise be denied such access).

An individual elementary or secondary school is not eligible to apply for a grant unless it is a charter school that is a local educational agency under State law or it is a school funded by the Bureau of Indian Affairs that meets the requirements established by 20 U.S.C. 9101(26)(C). A group of eligible entities is also eligible to receive a grant if the group follows the procedures for group applications in 34 CFR 75.127-129 of EDGAR.

Note: An eligible applicant may submit only one application for this competition, but may propose to carry out projects or activities at multiple sites in a single application.

Deadline for Transmittal of Applications: July 19, 2002.

Deadline for Intergovernmental Review: September 17, 2002.

Notification of Intent to Apply for Funding: We can expedite the review of applications and the final award of funds if we know beforehand approximately how many entities intend to apply for funding. Therefore, we strongly encourage each potential applicant to send by June 28, 2002 a brief notification of your intent to submit an application to the following address: ctc@ed.gov.

Please put “Notice of Intent” in the subject line. The notification of intent to apply for funding is optional and should not include information regarding the proposed application. Eligible applicants that fail to provide the notification can still submit an application for funding.

Estimated Available Funds: $15,000,000.

Cost Share Requirement: Recipients of the one-year grants under the program must share in the cost of the activities assisted under the grant. Grant recipients must make available non-Federal contributions in cash or in kind, as authorized under section 5512(c) of ESEA, of not less than 50 percent of the cost of activities assisted under the grant.

Estimated Range of Awards: $75,000—$300,000.

Estimated Average Size of Awards: $180,000.

Estimated Number of Awards: 83.

Note: The Department of Education is not bound by any estimates in this notice.

Project Period: Up to 12 months.

Page Limit: The application narrative (Part III of the application) is where you, the applicant, address the required application contents and the selection criteria that reviewers use to evaluate your application. You must limit Part III to the equivalent of no more than 40 pages using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, table of contents, the information addressing section 427 of GEPA, the resumes, the bibliography, or the letters of support.

However, you must include all of the application narrative in Part III.

We will reject your application if:

You apply these standards and exceed the page limit; or

You apply other standards and exceed the equivalent of the page limit.

Applicable Regulations: The Education Department General Administrative Regulations (EDGAR) in 34 CFR parts 75, 77, 79, 80, 81, 82, 85, 86, 97, 98 and 99.

SUPPLEMENTARY INFORMATION:

Description of Program

These grants are authorized by Title V, Part D, Subpart 11, section 5511 et seq. of the Elementary and Secondary Education Act of 1965 (ESEA), as amended by the No Child Left Behind Act of 2001 (20 U.S.C. 7263).

Grant recipients must use funds provided under this program to create or expand community technology centers that expand access to information technology and related training for disadvantaged residents of distressed urban and rural communities. The Community Technology Centers program is fundamentally an education program. The focus of successful projects will be on using technology as a tool to improve learning outcomes, rather than on simply providing individuals with access to technology as an end in itself. Teaching and learning should be at the core of each project's activities.

Program Evaluation

Recipients also must use grant funds to carry out an evaluation of the effectiveness of the project. Effectiveness should be measured on the basis of the actual learning gains achieved by project participants as determined by standardized assessments or other objective measures. The effectiveness of adult education and family literacy instruction provided by each project should be measured on the basis of the literacy skill gains made by the adult learners served by the project, as well as other outcomes, such as the receipt of a high school diploma or its equivalent, placement in employment or enrollment in postsecondary education.

Reporting Requirements

Applicants should be aware that, following the award of grants, we anticipate establishing reporting requirements for projects funded under this competition that will collect data on these and other outcomes for adult learners, using similar procedures as those used for the National Reporting System (NRS) for the Adult Education and Family Literacy Act. To determine educational gain for NRS, local adult education programs assess students at intake to determine their educational functioning level. There are four educational functioning levels for adult basic education, two for adult secondary education, and six levels for English-as-a-second language students. Each level describes a set of skills and competencies that students entering at that level can do in the areas of reading, writing, numeracy, speaking, and listening. Using these descriptors as guidelines, programs determine an initial level in which to place an entering student based on a standardized assessment procedure. After a pre-determined amount of instruction or time period, the program conducts a follow-up assessment of the student and uses the functioning level descriptors to determine whether the student has advanced one or more levels or is progressing within the same level. More information about the NRS procedures is available at: http://www.air-dc.org/nrs/DraftGuidelines.htm.

Consistent with the Paperwork Reduction Act, we will provide an opportunity for public review and comment prior to establishing any reporting requirements.

Applicants should anticipate and plan for the costs of student assessments and other associated evaluation activities in preparing the proposed budgets they submit with their applications.

Adult Education and Literacy

As the nation moves from an industrial-based to a service- and knowledge-based economy, there is widespread agreement that adults and youth need a higher level of academic knowledge, greater competency in information analysis and problem-solving, and a different mix of technical and technology skills. Unable to gain a foothold in this emerging new economy are the millions of adults who lack basic skills, proficiency in English, or a high school diploma or its equivalent.

Literacy in the Labor Force (1999), an analysis of data collected as part of the 1992 National Adult Literacy Survey, found that adults with the lowest literacy skills were four to seven times more likely to be unemployed than those with the highest literacy skills. When individuals with the lowest literacy skills did obtain employment, they earned nearly a third less than adults with the highest literacy skills. The Literacy in the Labor Force report is available on the website of the National Center for Education Statistics at: http://nces.ed.gov/pubsearch/pubsinfo.asp?pubid=1999470.

Community technology centers can provide new opportunities for these individuals to upgrade their skills so that they can move into postsecondary education and obtain better-paying jobs. Technology-supported instruction can increase access to adult education by providing learning opportunities at convenient times and locations. Instruction can be individualized to suit different learning styles, interests and levels of mastery. Learning time can be used more efficiently, enabling adult learners to move at their own pace. In some cases, technology-facilitated instruction can help students learn technology and technical skills at the same time that it addresses literacy needs.

In addressing the absolute priority this competition establishes for projects that provide adult education and family literacy activities, applicants may provide either or both adult education and family literacy, depending upon their own priorities and resources and the needs of the communities they serve. We also wish to emphasize that adult basic and adult secondary education instruction, and not only instruction designed to prepare individuals for the GED examination, are allowable uses of funds.

Other Authorized Uses of Funds

Grant funds also may be used to carry out other activities authorized by section 5513(b) of the statute, such as career development and job preparation activities, after-school academic enrichment activities for children and youth, and small business assistance activities. Other authorized activities include, among other things, support for personnel, equipment, networking capabilities, and other infrastructure costs. No funds may be used for construction costs.

Definitions: In addition to definitions in the statute and EDGAR, the following definitions apply:

Adult education means services or instruction below the postsecondary level for individuals—

(a) Who have attained 16 years of age;

(b) Who are not enrolled or required to be enrolled in secondary school under State law; and

(c) Who—

(1) Lack sufficient mastery of basic educational skills to enable the individuals to function effectively in society;

(2) Do not have a secondary school diploma or its recognized equivalent, and have not achieved an equivalent level of education; or

(3) Are unable to speak, read, or write the English language.

Economically distressed means a county or equivalent division of local government of a State (or a portion thereof) in which, according to the most recent available data from the United States Bureau of the Census, a significant percentage of the residents have an annual income that is at or below the poverty level.

Language instruction educational programs means programs of instruction designed to help adults and out-of-school youth of limited English proficiency achieve competence in the English language.

Application Narrative: Applicants must submit an application that includes:

(a) A description of the proposed project, including a description of the magnitude of the need for the services and how the project would expand access to information technology and related services to disadvantaged residents of an economically distressed urban or rural community.

(b) A demonstration of—

(1) The commitment, including the financial commitment, of entities (such as institutions, organizations, business and other groups in the community) that will provide support for the creation, expansion, and continuation of the proposed project; and

(2) The extent to which the proposed project coordinates with other appropriate agencies, efforts, and organizations providing services to disadvantaged residents of an economically distressed urban or rural community.

(c) A description of how the proposed project would be sustained once the Federal funds awarded under the grant end.

(d) A plan for the evaluation of the program, which shall include benchmarks to monitor progress toward specific project objectives.

Priorities

Absolute Priority: This competition focuses on projects designed to meet a priority that we have chosen from allowable activities specified in the program statute (see 34 CFR 75.105(b)(2)(v) and section 5513(b)(3)(B)(i) of the ESEA (20 U.S.C. 7263b(b)(3)(B)(i)).

Specifically, this competition establishes an absolute priority for projects that, at a minimum, provide adult education and family literacy activities through technology and the Internet, including General Education Development (GED), Language Instruction Educational Programs, and adult basic education classes or programs. Under 34 CFR 75.105(c)(3), we consider only applications that meet this absolute priority.

This absolute priority does not preclude projects from offering additional services authorized by the statute. However, they must, at a minimum, provide adult education and family literacy activities through technology and the Internet.

Competitive Priority: Within this absolute priority for this competition for FY 2002, we award, under section 34 CFR 75.105(c)(2)(i) and 34 CFR 75.255, an additional 5 points to an application from an otherwise eligible applicant that is a novice applicant. We award these points in addition to points that we award the applicant under the selection criteria. Thus, a novice applicant could earn a maximum of 110 points.

Note: A novice applicant is an applicant that, either individually or as a member of a consortium, has never received a grant under the Community Technology Centers program and has not received a discretionary grant from the Federal Government during the preceding five years (see 34 CFR 75.225(a)).

Waiver of Proposed Rulemaking

Under the Administrative Procedure Act (5 U.S.C. 553) the Department generally offers interested parties the opportunity to comment on proposed priorities and other program requirements. However, section 437(d)(1) of the General Education Provisions Act exempts from formal rulemaking requirements, regulations governing the first grant competition under a new or substantially revised program authority (20 U.S.C. 1232(d)(1)). The program authority for the Community Technology Centers program was substantially revised on January 8, 2002 by section 5511 of Pub. Law 107-110. In order to make awards on a timely basis, the Secretary has decided to issue this notice without first publishing proposed priorities and requirements for public comment. These priorities and requirements will apply to the FY 2002 grant competition only.

Selection Criteria: We use the following selection criteria to evaluate applications for grants under this competition.

The maximum score for all of these criteria is 105 points.

The maximum score for each criterion and factor is indicated in parentheses.

Note: In all instances where the word “project” appears in the selection criteria, the reference to a community technology center should be made.

(a) Need for project. (20 points)

(1) We consider the need for the proposed project.

(2) In determining the need for the proposed project, we consider the following factors:

(i) The magnitude of the need for the services to be provided or the activities to be carried out by the proposed project. (10 points)

(ii) The extent to which the proposed project will focus on serving or otherwise addressing the needs of disadvantaged individuals. (10 points)

(b) Significance. (10 points)

(1) We consider the significance of the proposed project.

(2) In determining the significance of the proposed project, we consider the importance or magnitude of the results or outcomes likely to be attained by the proposed project, especially improvements in teaching and student achievement. (10 points)

(c) Quality of project design. (30 points)

(1) We consider the quality of the design of the proposed project.

(2) In determining the quality of the design of the proposed project, we consider the following factors:

(i) The extent to which the goals, objectives, and outcomes to be achieved by the proposed project are clearly specified and measurable. (5 points)

(ii) The extent to which the proposed project will establish linkages with other appropriate agencies and organizations providing services to the target population. (5 points)

(iii) The extent to which the design of the proposed project reflects up-to-date knowledge from research and effective practice. (10 points)

(iv) The likelihood that the services to be provided by the proposed project will lead to improvements in the skills necessary to gain employment or build capacity for independent living. (10 points)

(d) Quality of project personnel. (10 points)

(1) We consider the quality of the personnel who will carry out the proposed project.

(2) In determining the quality of project personnel, we consider the extent to which the applicant encourages applications for employment from persons who are members of groups that have traditionally been underrepresented based on race, color, national origin, gender, age, or disability. (5 points)

(3) In addition, we consider the qualifications, including relevant training and experience, of key project personnel. (5 points)

(e) Quality of the management plan. (10 points)

(1) We consider the quality of the management plan for the proposed project.

(2) In determining the quality of the management plan for the proposed project, we consider the adequacy of the management plan to achieve the objectives of the proposed project on time and within budget, including clearly defined responsibilities, timelines, and milestones for accomplishing project tasks. (10 points)

(f) Adequacy of resources. (10 points)

(1) We consider the adequacy of resources for the proposed project.

(2) In determining the adequacy of resources for the proposed project, we consider the following factors:

(i) The adequacy of support, including facilities, equipment, supplies, and other resources, from the applicant organization or the lead applicant organization. (5 points)

(ii) The potential for continued support of the project after Federal funding ends, including, as appropriate, the demonstrated commitment of appropriate entities to such support. (5 points)

(g) Quality of project evaluation. (15 points)

(1) We consider the quality of the evaluation to be conducted by an independent evaluator of the proposed project.

(2) In determining the quality of the evaluation, we consider the following factors:

(i) The extent to which the methods of evaluation include the use of objective performance measures that are clearly related to the intended outcomes of the project and will produce quantitative and qualitative data to the extent possible. (10 points)

(ii) The extent to which the methods of evaluation will provide performance feedback and permit periodic assessment of progress toward achieving intended outcomes. (5 points)

Note: In accordance with EDGAR 34 CFR 75.590, 80.40, and 80.50, grant recipients must submit a final performance report as a condition of the grant that provides the most current performance and financial expenditure information on project activities, including the recipient's progress in achieving the objectives in its approved application.

Intergovernmental Review of Federal Programs

This program is subject to Executive Order 12372 (Intergovernmental Review of Federal Programs) and the regulations in 34 CFR part 79.

One of the objectives of the Executive order is to foster an intergovernmental partnership and a strengthened federalism. The Executive order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of those States and follow the procedure established in each State under the Executive order. If you want to know the name and address of any SPOC, see the latest official SPOC list on the Web site of the Office of Management and Budget at the following address: http://www.whitehouse.gov/omb/grants/spoc.html.

In States that have not established a process or chosen a program for review, State, areawide, regional, and local entities may submit comments directly to the Department.

Any State Process Recommendation and other comments submitted by a SPOC and any comments from State, areawide, regional, and local entities must be mailed or hand-delivered by the date indicated in this application notice to the following address: The Secretary, E.O. 12372-CFDA #84.341A, U.S. Department of Education, room 7E200, 400 Maryland Avenue, SW., Washington, DC 20202-0125.

We will determine proof of mailing under 34 CFR 75.102 (Deadline date for applications). Recommendations or comments may be hand-delivered until 4:30 p.m. (Washington, DC time) on the date indicated in this notice.

PLEASE NOTE THAT THIS ADDRESS IS NOT THE SAME ADDRESS AS THE ONE TO WHICH AN APPLICANT SUBMITS ITS COMPLETED APPLICATION. DO NOT SEND APPLICATIONS TO THE ABOVE ADDRESS.

Application Instructions and Forms

The Appendix to this notice contains forms and instructions, a statement regarding estimated public reporting burden, a notice to applicants regarding compliance with section 427 of the General Education Provisions Act, various assurances and certifications, and a checklist for applicants.

• Application for Federal Education Assistance (ED 424 (Exp. 11/30/2004)) and instructions and definitions.

• Protection of Human Subjects in Research (Attachment to ED 424).

• Budget Information—Non-Construction Programs (ED Form No. 524) and instructions.

• Application Narrative.

• Assurances—Non-Construction Programs (Standard Form 424B) (Rev. 7-97).

• Certifications regarding Lobbying; Debarment, Suspension, and Other Responsibility Matters; and Drug-Free Workplace Requirements (ED 80-0013, 12/98) and instructions.

• Certification regarding Debarment, Suspension, Ineligibility and Voluntary Exclusion: Lower Tier Covered Transactions (ED 80-0014, 9/90) and instructions. (NOTE: ED 80-0014 is intended for the use of grantees and should not be transmitted to the Department.)

• Certification of Eligibility for Federal Assistance in Certain Programs (ED 80-0016 9/92)).

• Disclosure of Lobbying Activities (Standard Form LLL (Rev. 7-97)) and instructions.

• Checklist for Applicants.

You may submit information on a photocopy of the application and budget forms, the assurances, and the certifications. However, the application form, the assurances, and the certifications must each have an original signature. We will not award a grant unless we have received a completed application form.

Individuals with disabilities may obtain this document in an alternative format (e.g., Braille, large print, audiotape, or computer diskette) on request to the program contact person listed under FOR FURTHER INFORMATION CONTACT. However, the Department is not able to reproduce in an alternative format the standard forms included in this application notice.

Electronic Access to this Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO) toll free, at 1-888-293-6498; or in the Washington, DC, area at (202) 512-1530.

You may also view this document in text at the following site: www.ed.gov/offices/OVAE/CTC.

Note: The official version of this document is the document published in the Federal Register. Free Internet access to the official edition of the Federal Register and the Code of Federal Regulations is available on GPO Access at: http://www.access.gpo.gov/nara/index.html.

FOR FURTHER INFORMATION CONTACT: Mary LeGwin or April Blunt, U.S. Department of Education, Community Technology Centers Program, Office of Vocational and Adult Education, 330 C Street, SW., room 4414, Switzer Building, Washington, DC 20202-7240. Telephone: (202) 205-4238 or via Internet: ctc@ed.gov.

If you use a telecommunications device for the deaf (TDD), you may call the Federal Information Relay Service (FIRS) at 1-800-877-8339.

Pilot Project for Electronic Submission of Applications

In FY 2002, the U.S. Department of Education is continuing to expand its pilot project of electronic submission of applications to include additional formula grant programs and additional discretionary grant competitions. The Community Technology Centers Program—CFDA 84.341A is one of the programs included in the pilot project. If you are an applicant under the Community Technology Centers Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the Community Technology Centers Program at: http://e-grants.ed.gov.

We have included additional information about the e-APPLICATION pilot project (see Parity Guidelines between Paper and Electronic Applications) in the application package.

Instructions for Transmitting Applications

If you want to apply for a grant and be considered for funding, you must meet the following deadline requirements:

(A) If You Send Your Application by Mail: You must mail the original and two copies of the application on or before the deadline date. To help expedite our review of your application, we would appreciate your voluntarily including an additional two copies of your application. We request that you bind one of these copies. Mail your application to: U.S. Department of Education, Application Control Center, Attention: (CFDA #84.341A, 7th & D Streets, SW., Room 3671, Regional Office Building 3, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

Note: Due to recent disruptions to normal mail delivery, the Department encourages you to consider using an alternative delivery method (for example, a commercial carrier, such as Federal Express or United Parcel Service; U. S. Postal Service Express Mail; or a courier service) to transmit your application for this competition. If you use an alternative delivery method, please obtain the appropriate proof of mailing under this section (A) “If You Send Your Application by Mail,” then follow the instructions in section (B) “If You Deliver Your Application by Hand.”

(B) If You Deliver Your Application by Hand: You or your courier must hand deliver the original and two copies of the application by 4:30 p.m. (Washington, DC time) on or before the deadline date. To help expedite our review of your application, we would appreciate your voluntarily including an additional two copies of your application. We request that you bind one of these copies. Deliver your application to: U.S. Department of Education, Application Control Center, Attention: (CFDA #84.341A), 7th & D Streets, SW., Room 3671, Regional Office Building 3, Washington, DC 20202-4725.

The Application Control Center accepts application deliveries daily between 8:00 a.m. and 4:30 p.m. (Washington, DC time), except Saturdays, Sundays, and Federal holidays. The Center accepts application deliveries through the D Street entrance only. A person delivering an application must show identification to enter the building.

(C) If You Submit Your Application Electronically: You must submit your grant application through the Internet using the software provided on the e-Grants Web site (http://e-grants.ed.gov) by 4:30 p.m. (Washington, DC time) on the deadline date.

The regular hours of operation of the e-Grants Web site are 6:00 a.m. until 12:00 midnight (Washington, DC time) Monday—Friday and 6:00 a.m. until 7:00 p.m. Saturdays. The system is unavailable on the second Saturday of every month, Sundays, and Federal holidays. Please note that on Wednesdays the Web site is closed for maintenance at 7:00 p.m. (Washington, DC time).

Notes: (1) The U.S. Postal Service does not uniformly provide a dated postmark. Before relying on this method, you should check with your local post office.

(2) If you send your application by mail or if you or your courier deliver it by hand, the Application Control Center will mail a Grant Application Receipt Acknowledgment to you. If you do not receive the notification of application receipt within 15 days from the date of mailing the application, you should call the U.S. Department of Education Application Control Center at (202) 708-9493.

(3) If your application is late, we will notify you that we will not consider the application.

(4) You must indicate on the envelope and—if not provided by the Department—in Item 4 of the Application for Federal Education Assistance (ED 424 (exp. 11/30/2004)) the CFDA number—and suffix letter, if any—of the competition under which you are submitting your application.

(5) If you submit your application through the Internet via the e-Grants Web site, you will receive an automatic acknowledgment when we receive your application.

Parity Guidelines Between Paper and Electronic Applications

In FY 2002, the U.S. Department of Education is continuing to expand the pilot project, which began in FY 2000, which allows applicants to use an Internet-based electronic system for submitting applications. This competition is among those that have an electronic submission option available to all applicants. The system, called e-APPLICATION, formerly e-GAPS (Electronic Grant Application System), allows an applicant to submit a grant application to us electronically, using a current version of the applicant's Internet browser. To see e-APPLICATION visit the following address: http://e-grants.ed.gov.

Users of e-APPLICATION, a data driven system, will be entering data on-line while completing their applications. This will be more interactive than just e-mailing a soft copy of a grant application to us. If you participate in this voluntary pilot project by submitting an application electronically, the data you enter on-line will go into a database and ultimately will be accessible in electronic form to our reviewers.

This pilot project continues the Department's transition to an electronic grant award process. In addition to e-APPLICATION, the Department plans to expand the number of discretionary programs using the electronic peer review (e-READER) system and to increase the participation of discretionary programs offering grantees the use of the electronic annual performance reporting (e-REPORTS) system.

To help ensure parity and a similar look between electronic and paper copies of grant applications, we are asking each applicant that submits a paper application to adhere to the following guidelines:

• Submit your application on 8½″ by 11″ paper.

• Leave a 1-inch margin on all sides.

• Use consistent font throughout your document. You may also use boldface type, underlining, and italics. However, please do not use colored text.

• Please use black and white, also, for illustrations, including charts, tables, graphs and pictures.

• For the narrative component, your application should consist of the number and text of each selection criterion followed by the narrative. The text of the selection criterion, if included, does not count against any page limitation.

• Place a page number at the bottom right of each page beginning with 1; and number your pages consecutively throughout your document.

Program Authority: 20 U.S.C. 7263.

Dated: May 30, 2002.
Carol D'Amico,
Assistant Secretary for Vocational and Adult Education.

Appendix—Estimated Public Reporting Burden

According to the Paperwork Reduction Act of 1995, you are not required to respond to a collection of information unless it displays a valid OMB control number. The valid OMB control number for this collection of information is 1890-0009. Expiration date: 7/31/2002. We estimate the time required to complete this collection of information to average 40 hours per response, including the time to review instructions, search existing data sources, gather the data needed, and complete and review the collection of information. If you have any comments concerning the accuracy of the time estimate or suggestions for improving this form, please write to: Mary LeGwin or April Blunt, Community Technology Centers Program, U.S. Department of Education, Washington, DC 20202-4651. If you have comments or concerns regarding the status of your submission of this form, write directly to: Community Technology Centers Program, Division of Adult Education and Literacy, Office of Vocational and Adult Education, U.S. Department of Education, 400 Maryland Avenue, SW., Room 4414, Mary E. Switzer Building, Washington, DC 20202-7240.

Instructions for the Application Narrative

The narrative is the section of the application where the selection criteria used by reviewers in evaluating the application are addressed. The narrative must encompass each function or activity for which funds are being requested. Before preparing the Application Narrative, an applicant should read carefully the description of the program, the required contents of the application, and the selection criteria we use to evaluate applications.

1. Begin with a one-page abstract summarizing the proposed community technology center project, including a short description of the population to be served by the project, project objectives, and planned project activities;

2. Include a table of contents listing the parts of the narrative in the order of first, the required elements of the application, and second, the selection criteria. Indicate the page numbers on which the different parts of the narrative are found. Be sure to number the pages.

3. Address the four required elements of the application.

4. Describe fully the proposed project in light of the selection criteria in the order in which the criteria are listed in the application package. Do not simply paraphrase the criteria.

5. In the application budget, include a description of the non-federal contributions that the applicant will contribute to the project in amounts not less than the non-federal contribution as required in this notice. Budget line items must support the goals and objectives of the proposed project.

6. Provide the following in response to the attached “Notice to all Applicants'': (1) A reference to the portion of the application in which information appears as to how the applicant is addressing steps to promote equitable access and participation, or (2) a separate statement that contains that information.

7. When applying for funds as a consortium, individual eligible applicants must enter into an agreement signed by all members. The consortium's agreement must detail the activities each member of the consortium plans to perform, and must bind each member to every statement and assurance made in the consortium's application. The designated applicant must submit the consortium's agreement with its application.

8. Attach copies of all required assurances and forms.

Budget Information and Instructions

1. Personnel: Show salaries to be paid to personnel.

2. Fringe Benefits: Indicate the rate and amount of fringe benefits.

3. Travel: Indicate the amount requested for both local and out of State travel of Program Staff. Include funds for two people to attend the Program Director's Workshop in Washington, DC.

4. Equipment: Indicate the cost of non-expendable personal property that has a cost of $5,000 or more per unit.

5. Supplies: Include the cost of consumable supplies and materials to be used during the project period.

6. Contractual: Show the amount to be used for: (1) Procurement contracts (except those which belong on other lines such as supplies and equipment); and (2) sub-contracts.

7. Construction: Not applicable.

8. Other: Indicate all direct costs not clearly covered by lines 1 through 6 above, including consultants and capital expenditures.

9. Total Direct Cost: Show the total for Lines 1 through 8.

10. Limitation on Indirect Costs: The success of the Community Technology Centers program will depend upon how well grantees improve the literacy and other skills of those they serve. If the program is to achieve its purposes, we need to ensure that the $15 million available for new grants is used as effectively as possible. To do so, it is necessary to place a reasonable limitation on the amount of program funds that grant recipients may use to reimburse themselves for the “indirect costs” of program activities. Therefore, the Secretary has decided to establish a reasonable limit of eight percent (8%) on the indirect cost rate that all program recipients may charge to funds provided under this program. Indicate the rate and amount of indirect costs for each budget year. Indirect cost reimbursement is limited to your actual indirect costs, as determined by your negotiated indirect cost rate agreement, or eight percent (8%) of your modified direct cost base, whichever is less. If you do not have a negotiated indirect cost rate agreement, we may assign you a temporary rate until a rate agreement has been negotiated.

11. Training/Stipend Cost: Not applicable.

12. Total Costs: Show total for lines 9 through 11.

Instructions for the Budget Narrative

The budget narrative should explain, justify, and, if needed, clarify your budget summary. For each line item (personnel, fringe benefits, travel, etc.) in your budget, explain why it is there and how you computed the costs. Please limit this section to no more than five pages. Be sure that each page of your application is numbered consecutively.

Checklist for Applicants

The following forms and other items must be included in the application in the order listed below:

1. Application for Federal Assistance (ED 424).

2. Budget Information—Non-construction Programs (ED Form No. 524).

3. Budget Narrative.

4. Application Narrative, including application abstract, table of contents, the four required elements of the application, responses to the selection criteria, and information that addresses section 427 of the General Education Provisions Act. (See the section entitled “NOTICE TO ALL APPLICANTS”).

5. Assurances—Non-Construction Programs (SF 424B).

6. Certifications Regarding Lobbying; Debarment, Suspension, and Other Responsibility Matters; and Drug-Free Workplace Requirements (ED 80-0013).

7. Certification Regarding Debarment, Suspension, Ineligibility and Voluntary Exclusion—Lower Tier Covered Transactions (ED 80-0014).

8. Disclosure of Lobbying Activities (Standard Form LLL).

9. Consortium agreement, if applicable.

Note: The section on PAGE LIMIT elsewhere in this application notice applies to your application. The 40 page limit applies to the four required elements of the application and your responses to the selection criteria.

BILLING CODE 4000-01-P

[FR Doc. 02-13983 Filed 6-3-02; 8:45 am]

BILLING CODE 4000-01-C